DEPARTMENT OF TRANSPORTATION

Maritime Administration

[Docket No. MARAD 2015-0022]

Use of Foreign-Flag Anchor Handling Vessels in the Beaufort Sea or Chukchi Sea Adjacent to Alaska

AGENCY: Maritime Administration, Department of Transportation.

ACTION: Notice and request for comments.

SUMMARY: The Secretary of Transportation, as represented by the Maritime Administration, is authorized to make determinations permitting the use of foreign-flag anchor handling vessels in certain cases (and for a limited period of time) if no U.S.-flag vessels are found to be suitable and reasonably available.

A request for such a determination regarding anchor handling vessels with a minimum ice class A3 has been received by the Maritime Administration. If the Maritime Administration determines that U.S.-flag vessels are not suitable and reasonably available for the proposed service, a determination will be granted allowing for the conditional use of these vessels, within a set time frame. Those interested in providing the names of suitable and available vessels for the proposed service should refer to the docket number, and identify the U.S.-flag vessels available.

DATES: Submit U.S.-flag anchor handling ice class A3 or above vessel nominations on or before April 6, 2015.

ADDRESSES: U.S.-flag vessel nominations should refer to docket number MARAD 2015-0022. Written nominations may be submitted by hand or by mail to the Docket Clerk, U.S. Department of Transportation, Docket Operations, M-30 West Building Ground Floor, Room W12-140, 1200 New Jersey Avenue SE., Washington, DC 20590-0001. You may also send documents electronically via the Internet at http://www.regulations.gov. To do so, search “MARAD 2015-0022” and follow the instructions for submitting comments.

All submissions will become part of this docket and will be available for inspection and copying at the above address between 10 a.m. and 5 p.m., E.T., Monday through Friday, except federal holidays. An electronic version of this document, and all documents entered into this docket, is available on the World Wide Web at http://www.regulations.gov., key search “MARAD 2015-0022.” All comments and documents received will be posted without change to the docket, including any personal or business information provided. For additional information on the availability of submitted material, see the section entitled Privacy Act.

FOR FURTHER INFORMATION CONTACT: You may contact Michael Hokana, U.S. Department of Transportation, Maritime Administration, MAR-730 Room W21-304, 1200 New Jersey Avenue SE., Washington, DC 20590. Telephone 202-366-0760.

SUPPLEMENTARY INFORMATION: The Maritime Administration has received a request from a company seeking permission to charter a foreign-flag ice-classed A3 anchor handling vessel adjacent to the coast of Alaska. The foreign-flag anchor handling vessel (TOR VIKING II 9199622) would operate in the Beaufort Sea or Chukchi Sea adjacent to Alaska, under certain conditions, and for a limited period of time. Section 306 of Public Law 111-281 allows the use of foreign-flag vessels in this regard if the Maritime Administration determines that U.S.-flag vessels are not suitable or reasonably available.

The Maritime Administration is posting this notice in the Federal Register providing the public notice 30 days in advance of our intention to provide a determination allowing for the use of a foreign-flag vessel in this regard, if suitable and available U.S.-flag vessels are not otherwise identified. Our determination will be for a period of one calendar year from July 2015. Foreign-flag anchor handling vessels may not be employed for the setting, relocation or recovery of anchors or other mooring equipment of a mobile offshore drilling unit after December 31, 2017.

Privacy Act

Anyone is able to search the electronic form of all comments and supporting documentation received into any of our dockets by the name of the individual submitting the comment (or signing the comment, if submitted on behalf of an association, business, labor union, etc.). You may review the DOT Privacy Act system of records notice for the Federal Docket Management System (FDMS) in the Federal Register published on January 17, 2008, (73 FR 3316) at http://edocket.access.gpo.gov/2008/pdf/E8-785.pdf.

Authority: Section 306, Pub. L. 111-281 (Oct. 15, 2010).

By Order of the Maritime Administrator.
Dated: March 3, 2015.
Thomas M. Hudson, Jr.,
Assistant Secretary, Maritime Administration.

[FR Doc. 2015-05226 Filed 3-5-15; 8:45 am]

BILLING CODE 4910-81-P